DEPARTMENT OF COMMERCE

National Oceanic and Atmospheric Administration

RIN 0648-XA609

South Atlantic Fishery Management Council; Public Hearings

AGENCY: Commerce, National Oceanic and Atmospheric Administration, National Marine Fisheries Service (NMFS).

ACTION: Notice of Public Hearing Series.

SUMMARY: The South Atlantic Fishery Management Council (Council) will hold a series of public hearings regarding Amendment 24 to the Snapper Grouper Fishery Management Plan (FMP) for the South Atlantic Region. See SUPPLEMENTARY INFORMATION for the public hearings schedule.

DATES: The series of four public hearings will be held August 22, 2011 through August 25, 2011. The hearings will be held from 5 p.m. until 7 p.m. Council staff will present an overview of the amendment and will be available for informal discussions and to answer questions. Members of the public will have an opportunity to go on record at any time during the meeting hours to record their comments on the public hearing topics for consideration by the Council. Local Council representatives will attend the meetings and take public comment. Written comments will be accepted from August 12, 2011 until 5 p.m. on September 1, 2011. See SUPPLEMENTARY INFORMATION.

ADDRESSES: Written comments should be sent to Bob Mahood, Executive Director, South Atlantic Fishery Management Council, 4055 Faber Place Drive, Suite 201, North Charleston, SC 29405, or via e-mail to: SGAmend24PHcomment@safmc.net for Amendment 24 to the Snapper Grouper FMP. Written comments will be received from August 12, 2011 until 5 p.m. on September 1, 2011.

Copies of the public hearing documents are available by contacting Kim Iverson, Public Information Officer, South Atlantic Fishery Management Council, 4055 Faber Place Drive, Suite 201, North Charleston, SC 29405; telephone: (843) 571-4366 or toll free at (866) SAFMC-10. Copies will also be available online at http://www.safmc.net as they become available.

FOR FURTHER INFORMATION CONTACT: Kim Iverson, South Atlantic Fishery Management Council, 4055 Faber Place Drive, Suite 201, North Charleston, SC 29405; telephone: (843) 571-4366; fax: (843) 769-4520; e-mail address: kim.iverson@safmc.net.

SUPPLEMENTARY INFORMATION: Amendment 24 to the Snapper Grouper FMP would implement a rebuilding plan for red grouper in the South Atlantic as required by the Magnuson-Stevens Fishery Conservation and Management Act (Magnuson-Stevens Act) for species determined to be overfished and undergoing overfishing. The intent of the rebuilding plan is to end overfishing immediately and increase biomass of overfished stocks to a sustainable level within a specified period of time. The amendment would also specify Maximum Sustainable Yield (MSY), the Maximum Fishing Mortality Threshold (MSST), and Optimum Yield (OY) for the red grouper fishery. In addition, Annual Catch Limits (ACLs) and Accountability Measures (AMs) would be established for both recreational and commercial sectors of the red grouper fishery.

Public Hearing Schedule:

(1) August 22, 2011—Hilton Wilmington Riverside, 301 North Water Street, Wilmington, NC 28401; Phone: (910) 763-5900;

(2) August 23, 2011—Hilton Garden Inn, 5265 International Boulevard, North Charleston, SC 29418; Phone: (843) 308-9330;

(3) August 24, 2011—Jacksonville Marriott, 4670 Salisbury Road, Jacksonville, FL 32256; Phone: (904) 296-2222;

(4) August 25, 2011—Radisson Resort at the Port, 8701 Astronaut Boulevard, Cape Canaveral, FL 32920; Phone: (321) 784-0000.

Special Accommodations

These meetings are physically accessible to people with disabilities. Requests for sign language interpretation or other auxiliary aids should be directed to the Council office (see ADDRESSES) three days prior to the start of each meeting.

Dated: July 26, 2011.
Tracey L. Thompson,
Acting Director, Office of Sustainable Fisheries, National Marine Fisheries Service.

[FR Doc. 2011-19309 Filed 7-29-11; 8:45 am]

BILLING CODE 3510-22-P